DEPARTMENT OF COMMERCE

International Trade Administration

[A-549-502]

Circular Welded Carbon Steel Pipes and Tubes From Thailand: Final Results of Antidumping Duty Administrative Review; 2016-2017

AGENCY: Enforcement and Compliance, International Trade Administration, Department of Commerce.

SUMMARY: The Department of Commerce (Commerce) determines that circular welded carbon steel pipes and tubes (pipes and tubes) from Thailand are being, or are likely to be sold, at less than normal value during the period of review (POR), March 1, 2016, through February 28, 2017.

DATES: Applicable: October 15, 2018.

FOR FURTHER INFORMATION CONTACT: Toni Page or Kathryn Wallace, AD/CVD Operations, Office VII, Enforcement and Compliance, International Trade Administration, U.S. Department of Commerce, 1401 Constitution Avenue NW, Washington, DC 20230; telephone: (202) 482-1398 or (202) 482-6251, respectively.

SUPPLEMENTARY INFORMATION:

Background

On April 9, 2018, Commerce published the Preliminary Results of the 2016-2017 administrative review of the antidumping duty order on pipes and tubes from Thailand.¹ For a discussion of the events subsequent to the Preliminary Results, see the Issues and Decision Memorandum dated concurrently with and hereby adopted by this notice.²

¹ See Circular Welded Carbon Steel Pipes and Tubes from Thailand: Preliminary Results of Antidumping Duty Administrative Review; 2016-2017, 83 FR 15127 (April 9, 2018) (Preliminary Results) and accompanying Preliminary Decision Memorandum (PDM).

² See Memorandum, “Circular Welded Carbon Steel Pipes and Tubes from Thailand: Decision Memorandum for the Final Results of Antidumping Duty Administrative Review; 2016-2017,” dated concurrently with this notice (Issues and Decision Memorandum).

Scope of the Order

The products covered by this review are certain circular welded carbon steel pipes and tubes from Thailand. For a full description of the scope, see the Issues and Decision Memorandum.³

³ Id.

Analysis of Comments Received

All issues raised in the case and rebuttal briefs by parties to this administrative review are addressed in the Issues and Decision Memorandum.⁴ A list of issues raised, and to which we responded in the Issues and Decision Memorandum, is attached to this notice as an Appendix. The Issues and Decision Memorandum is a public document and is on-file electronically via Enforcement and Compliance's Antidumping and Countervailing Duty Centralized Electronic Service System (ACCESS). ACCESS is available to registered users at https://access.trade.gov, and it is available to all parties in the Central Records Unit (CRU), Room B8024 of the main Department of Commerce building. In addition, a complete version of the Issues and Decision Memorandum can be accessed directly on the internet at http://enforcement.trade.gov/frn/index.html. The signed Issues and Decision Memorandum and the electronic versions of the Issues and Decision Memorandum are identical in content.

⁴ Id.

Changes Since the Preliminary Results

Based on a review of the record and comments received from interested parties, we have made certain changes to Pacific Pipe Public Company Limited's (Pacific Pipe); Saha Thai Steel Pipe (Public) Company, Ltd.'s (Saha Thai); and Thai Premium Pipe Co., Ltd.'s (Thai Premium) weighted-average dumping margins. For further discussion, see the Issues and Decision Memorandum.

Final Results of Review

We determine that, for the period March 1, 2016, through February 28, 2017, the following weighted-average dumping margins exist:

Producer or exporter | Weighted- average dumping margin (percent)
Pacific Pipe Company Limited | 30.61
Saha Thai Steel Pipe (Public) Company, Ltd | 28.00
Thai Premium Pipe Company Ltd | 30.98

Assessment Rates

Pursuant to section 751(a)(2)(C) of the Tariff Act of 1930, as amended (the Act) and 19 CFR 351.212(b)(1), Commerce determined, and U.S. Customs and Border Protection (CBP) shall assess, antidumping duties on all appropriate entries of subject merchandise, in accordance with the final results of this review. If a respondent's weighted-average dumping margin is not zero or de minimis (i.e., less than 0.5 percent), we will calculate importer-specific ad valorem assessment rates on the basis of the ratio of the total amount of dumping calculated for an importer's examined sales and the total entered value of such sales in accordance with 19 CFR 351.212(b)(1). Where either the respondent's weighted-average dumping margin is zero or de minimis within the meaning of 19 CFR 351.106(c), or an importer-specific rate is zero or de minimis, we will instruct CBP to liquidate the appropriate entries without regard to antidumping duties. Commerce intends to issue appropriate assessment instructions to CBP 15 days after the date of publication of the final results of review.

Cash Deposit Requirements

The following cash deposit requirements will be effective for all shipments of subject merchandise entered, or withdrawn from warehouse, for consumption on or after the date of publication of the final results of this administrative review, as provided for by section 751(a)(2)(C) of the Act: (1) The cash deposit rate for the companies under review will be equal to the weighted-average dumping margin established in the final results of this review; (2) for previously reviewed or investigated companies not listed above in the Final Results of Review, including those for which Commerce may determine had no shipments during the POR, the cash deposit rate will continue to be the company-specific rate published for the most recently completed segment of this proceeding; (3) if the exporter is not a firm covered in this review or another completed segment of this proceeding, but the producer is, then the cash deposit rate will be the rate established for the most recently completed segment of this proceeding for the producer of the merchandise; and (4) if neither the exporter nor the producer is a firm covered in this or a previously completed segment of this proceeding, then the cash deposit rate will be the “all-others” rate of 15.67 percent established in the less-than-fair-value investigation.⁵ These cash deposit requirements, when imposed, shall remain in effect until further notice.

⁵ See Antidumping Duty Order; Circular Welded Carbon Steel Pipes and Tubes from Thailand, 51 FR 8341 (March 11, 1986).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

We are issuing and publishing this notice in accordance with sections 751(a)(1) and 777(i) of the Act and 19 CFR 351.221(b)(5).

Dated: October 4, 2018.
Gary Taverman,
Deputy Assistant Secretary for Antidumping and Countervailing Duty Operations, performing the non-exclusive functions and duties of the Assistant Secretary for Enforcement and Compliance.

Appendix

Issues and Decision Memorandum

I. Summary

II. List of Comments

III. Background

IV. Scope of the Order

V. Discussion of the Comments

Comment 1: Whether to Accept Certain New Factual Information Regarding Particular Market Situation (PMS) Allegation

Comment 2: Whether Commerce Improperly Made PMS Adjustments to the Respondents' Cost of Production.

Comment 3: PMS Adjustments to Pacific Pipe's and Saha Thai's Calculations

Comment 4: Sales Date Parameters of Pacific Pipe's Home Market and U.S. Sales Programs

Comment 5: Pacific Pipe's Fixed Overhead Costs

Comment 6: Assignment of Surrogate Costs to Certain Pacific Pipe Home Market Sales

Comment 7: Pacific Pipe's Home Market Discounts and Rebates

Comment 8: Sales Date Parameters of Saha Thai's Home Market and U.S. Sales Programs

Comment 9: Saha Thai's Duty Drawback Adjustment

Comment 10: Differential Pricing Analysis of Saha Thai's U.S. Sales

Comment 11: Sales Date Parameters of Thai Premium's Home Market Sales Program

Comment 12: Assignment of Surrogate Costs to Certain Thai Premium Home Market Sales

Comment 13: Revision of Variable Names in Thai Premium's Home Market Program

VI. Recommendation

[FR Doc. 2018-22237 Filed 10-12-18; 8:45 am]

BILLING CODE 3510-DS-P